DEPARTMENT OF TRANSPORTATION

Transportation Security Administration

Intercity Bus Security Grant Program; Notice Modifying the Closing Date for Receipt of Applications Under the Intercity Bus Security Grant Program

AGENCY: Transportation Security Administration, Department of Transportation.

Authority: Authority for this program is contained in the fiscal year 2002 Supplemental Appropriations Act for Further Recovery From and Response to Terrorist Attacks on the United States, Pub. L. 107-206, 116 Stat. 820.

ACTION: Notice modifying deadline for receipt of applications.

SUMMARY: This notice extends the closing date previously established for receipt of applications under the Intercity Bus Security Grant Program (Program Announcement #02MLPA0002) in 68 FR 2634, Jan. 17, 2003. Applications must be received on or before 4 p.m. EST, March 19, 2003.

ADDRESSES: Program Announcement #02MLPA002 and application forms for the Intercity Bus Security Grant Program are available through the TSA Internet at http://www.tsa.dot.gov under Business Opportunities and Industry Partners.

FOR FURTHER INFORMATION CONTACT: Ms. Mary Heying, Transportation Security Administration, Office of Maritime and Land Security, 400 7th Street, SW., TSA-8, Washington, DC 20590, (phone: 571-227-1252, e-mail: Mary.Heying@tsa.dot.gov), or Mr. Tony Corio (phone: 571-227-1233, e-mail: Tony.Corio@tsa.dot.gov).

Dated: January 30, 2003.
Richard E. Bennis,
Assistant Administrator, Office of Maritime and Land Security.

[FR Doc. 03-2654 Filed 2-4-03; 8:45 am]

BILLING CODE 4110-62-M